ENVIRONMENTAL PROTECTION AGENCY

[OPP-2005-0061; FRL-7702-5]

Azinphos-methyl; Notice of Receipt of Requests to Voluntarily Cancel or to Amend to Terminate Uses of Certain Pesticide Registrations

AGENCY: Environmental Protection Agency (EPA).

ACTION: Notice.

SUMMARY: In accordance with section 6(f)(1) of the Federal Insecticide, Fungicide, and Rodenticide Act (FIFRA), as amended, EPA is issuing a notice of receipt of requests by the technical registrants to amend their registrations to terminate uses of certain products containing the pesticide azinphos-methyl. The requests would terminate azinphos-methyl use in or on caneberries, cotton, cranberries, nectarines, peaches, potatoes, and southern pine seed orchards. EPA intends to grant these requests at the close of the comment period for this announcement unless, based on substantive comments received during the comment period or other relevant information, the Agency determines that the requests merit further review. Upon granting these requests, any sale, distribution, or use of products listed in this notice will be permitted only if such sale, distribution, or use is consistent with the terms as described in the final order.

DATES: Comments, identified by docket identification (ID) number OPP-2005-0061, must be received on or before March 30, 2005.

ADDRESSES: Comments may be submitted electronically, by mail, or through hand delivery/courier. Follow the detailed instructions as provided in Unit I. of the SUPPLEMENTARY INFORMATION.

FOR FURTHER INFORMATION CONTACT: Diane Isbell, Special Review and Reregistration Division (7508C), Office of Pesticide Programs, Environmental Protection Agency, 1200 Pennsylvania Ave., NW., Washington, DC 20460-0001; telephone number: (703) 308-8154; fax number: (703) 308-8041; e-mail address: isbell.diane@epa.gov.

SUPPLEMENTARY INFORMATION:

I. General Information

A. Does this Action Apply to Me?

This action is directed to the public in general, and may be of interest to a wide range of stakeholders including environmental, human health, and agricultural advocates; the chemical industry; pesticide users; and members of the public interested in the sale, distribution, or use of pesticides. Since others also may be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket ID number OPP-2005-0061. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

Certain types of information will not be placed in the EPA Dockets. Information claimed as CBI and other information whose disclosure is restricted by statute, which is not included in the official public docket, will not be available for public viewing in EPA's electronic public docket. EPA's policy is that copyrighted material will not be placed in EPA's electronic public docket but will be available only in printed, paper form in the official public docket. To the extent feasible, publicly available docket materials will be made available in EPA's electronic public docket. When a document is selected from the index list in EPA Dockets, the system will identify whether the document is available for viewing in EPA's electronic public docket. Although not all docket materials may be available electronically, you may still access any of the publicly available docket materials through the docket facility identified in Unit I.B.1. EPA intends to work towards providing electronic access to all of the publicly available docket materials through EPA's electronic public docket.

For public commenters, it is important to note that EPA's policy is that public comments, whether submitted electronically or in paper, will be made available for public viewing in EPA's electronic public docket as EPA receives them and without change, unless the comment contains copyrighted material, CBI, or other information whose disclosure is restricted by statute. When EPA identifies a comment containing copyrighted material, EPA will provide a reference to that material in the version of the comment that is placed in EPA's electronic public docket. The entire printed comment, including the copyrighted material, will be available in the public docket.

Public comments submitted on computer disks that are mailed or delivered to the docket will be transferred to EPA's electronic public docket. Public comments that are mailed or delivered to the docket will be scanned and placed in EPA's electronic public docket. Where practical, physical objects will be photographed, and the photograph will be placed in EPA's electronic public docket along with a brief description written by the docket staff.

C. How and to Whom Do I Submit Comments?

You may submit comments electronically, by mail, or through hand delivery/courier. To ensure proper receipt by EPA, identify the appropriate docket ID number in the subject line on the first page of your comment. Please ensure that your comments are submitted within the specified comment period. Comments received after the close of the comment period will be marked “late.” EPA is not required to consider these late comments. If you wish to submit CBI or information that is otherwise protected by statute, please follow the instructions in Unit I.D. Do not use EPA Dockets or e-mail to submit CBI or information protected by statute.

1. Electronically. If you submit an electronic comment as prescribed in this unit, EPA recommends that you include your name, mailing address, and an e-mail address or other contact information in the body of your comment. Also include this contact information on the outside of any disk or CD ROM you submit, and in any cover letter accompanying the disk or CD ROM. This ensures that you can be identified as the submitter of the comment and allows EPA to contact you in case EPA cannot read your comment due to technical difficulties or needs further information on the substance of your comment. EPA's policy is that EPA will not edit your comment, and any identifying or contact information provided in the body of a comment will be included as part of the comment that is placed in the official public docket, and made available in EPA's electronic public docket. If EPA cannot read your comment due to technical difficulties and cannot contact you for clarification, EPA may not be able to consider your comment.

i. EPA Dockets. Your use of EPA's electronic public docket to submit comments to EPA electronically is EPA's preferred method for receiving comments. Go directly to EPA Dockets at http://www.epa.gov/edocket/, and follow the online instructions for submitting comments. Once in the system, select “search,” and then key in docket ID number OPP-2005-0061. The system is an “anonymous access” system, which means EPA will not know your identity, e-mail address, or other contact information unless you provide it in the body of your comment.

ii. E-mail. Comments may be sent by e-mail to opp-docket@epa.gov, Attention: Docket ID Number OPP-2005-0061. In contrast to EPA's electronic public docket, EPA's e-mail system is not an “anonymous access” system. If you send an e-mail comment directly to the docket without going through EPA's electronic public docket, EPA's e-mail system automatically captures your e-mail address. E-mail addresses that are automatically captured by EPA's e-mail system are included as part of the comment that is placed in the official public docket, and made available in EPA's electronic public docket.

iii. Disk or CD ROM . You may submit comments on a disk or CD ROM that you mail to the mailing address identified in Unit I.C.2. These electronic submissions will be accepted in WordPerfect or ASCII file format. Avoid the use of special characters and any form of encryption.

2. By mail. Send your comments to: Public Information and Records Integrity Branch (PIRIB) (7502C), Office of Pesticide Programs (OPP), Environmental Protection Agency, 1200 Pennsylvania Ave., NW., Washington, DC 20460-0001, Attention: Docket ID Number OPP-2005-0061.

3. By hand delivery or courier. Deliver your comments to: Public Information and Records Integrity Branch (PIRIB), Office of Pesticide Programs (OPP), Environmental Protection Agency, Rm. 119, Crystal Mall #2, 1801 S. Bell St., Arlington, VA, Attention: Docket ID Number OPP-2005-0061. Such deliveries are only accepted during the docket's normal hours of operation as identified in Unit I.B.1.

D. How Should I Submit CBI to the Agency?

Do not submit information that you consider to be CBI electronically through EPA's electronic public docket or by e-mail. You may claim information that you submit to EPA as CBI by marking any part or all of that information as CBI (if you submit CBI on disk or CD ROM, mark the outside of the disk or CD ROM as CBI and then identify electronically within the disk or CD ROM the specific information that is CBI). Information so marked will not be disclosed except in accordance with procedures set forth in 40 CFR part 2.

In addition to one complete version of the comment that includes any information claimed as CBI, a copy of the comment that does not contain the information claimed as CBI must be submitted for inclusion in the public docket and EPA's electronic public docket. If you submit the copy that does not contain CBI on disk or CD ROM, mark the outside of the disk or CD ROM clearly that it does not contain CBI. Information not marked as CBI will be included in the public docket and EPA's electronic public docket without prior notice. If you have any questions about CBI or the procedures for claiming CBI, please consult the person listed under FOR FURTHER INFORMATION CONTACT.

E. What Should I Consider as I Prepare My Comments for EPA?

You may find the following suggestions helpful for preparing your comments:

1. Explain your views as clearly as possible.

2. Describe any assumptions that you used.

3. Provide any technical information and/or data you used that support your views.

4. If you estimate potential burden or costs, explain how you arrived at your estimate.

5. Provide specific examples to illustrate your concerns.

6. Offer alternatives.

7. Make sure to submit your comments by the comment period deadline identified.

8. To ensure proper receipt by EPA, identify the appropriate docket ID number in the subject line on the first page of your response. It would also be helpful if you provided the name, date, and Federal Register citation related to your comments.

II. Background on the Receipt of Requests to Cancel and/or Amend Registrations to Delete Uses

This notice announces receipt by EPA of requests from registrants Bayer CropScience, Gowan Company, and Makhteshim Agan of North America, Inc., to amend technical labels to terminate caneberries, cotton, cranberries, nectarines, peaches, potatoes, and southern pine seed orchards uses from EPA Reg. No. 264-722 (Bayer CropScience), 10163-95 (Gowan Company), and 11678-53 (Makhteshim Agan of North America, Inc.) azinphos-methyl registrations. The Interim Reregistration Eligibility Decision (IRED) for azinphos-methyl was issued in October 2001, and included a determination that AZM uses should be canceled, phased out, or, in some instances, allowed to continue under time-limited registrations. Azinphos-methyl is an organophosphate insecticide first registered in 1959, and is widely used in agriculture on orchard fruits, berries, nuts, and other crops. During the development of the IRED, EPA evaluated the risks and benefits associated with azinphos-methyl use, considered all relevant risk mitigation options and implemented a variety of mitigation measures, including reductions in the rate and frequency of applications and precautionary labeling to reduce risks. Despite these mitigation measures, azinphos-methyl use poses residual worker and ecological risks of concern. The technical registrants of azinphos-methyl entered into a Memorandum of Agreement (MOA) signed on May 23, 2002. The MOA divided the crops into three groups: Group 1, Voluntary Use Deletions; Group 2, Phase-out of use on caneberries, cotton, cranberries, nectarines, peaches, potatoes, and southern pine seed orchards for end use products by December 31, 2005; and Group 3, Time-limited Registrations on almonds; apples; crab apples; blueberries, lowbush and highbush; brussel sprouts; sweet and tart cherries; nursery stock; parsley; pears; pistachios; and walnuts. Group 3 uses are scheduled to be re-evaluated by October 31, 2005.

EPA has received comments and requests to extend uses from the U.S. Department of Agriculture, researchers, and commodity groups on the following azinphos-methyl uses that are being proposed for voluntary cancellation: Caneberries, cranberries, peaches, potatoes, and southern pine seed orchards. The Agency intends to evaluate these requests along with other comments that are received from this notice, and publish a response in the Federal Register after the close of the 30-day comment period.

In letters dated January 3, 2005, and February 3, 2005, and February 18, 2005, Bayer CropScience, Gowan Company, and Makhteshim Agan of North America, Inc., requested that EPA amend the affected technical registrations to terminate uses of the azinphos-methyl identified in this notice in Tables 1 and 2 of Unit III. In accordance with the MOA and section 6(f) of FIFRA, this notice announces receipt of requests to terminate uses on the crops listed in Group 2. EPA intends to re-evaluate the risks and benefits associated with azinphos-methyl use on the time-limited crops listed in Group 3 by October 31, 2005.

III. What Action is the Agency Taking?

This notice announces receipt by EPA of requests from registrants to amend the technical registrations to terminate uses of azinphos-methyl on caneberries, cotton, cranberries, nectarines, peaches, potatoes, and southern pine seed orchards. The affected products and the registrants making the requests are identified in Tables 1 and 2 of of this unit.

Under section 6(f)(1)(A) of FIFRA, registrants may request, at any time, that their pesticide registrations be canceled or amended to terminate one or more pesticide uses. Section 6(f)(1)(B) of FIFRA requires that before acting on a request for voluntary cancellation, EPA must provide a 30-day public comment period on the request for voluntary cancellation or use termination. In addition, section 6(f)(1)(C) of FIFRA requires that EPA provide a 180-day comment period on a request for voluntary cancellation or termination of any minor agricultural use before granting the request, unless:

1. The registrants request a waiver of the comment period, or

2. The Administrator determines that continued use of the pesticide would pose an unreasonable adverse effect on the environment.

The azinphos-methyl registrants have requested that EPA waive the 180-day comment period. EPA will provide a 30-day comment period on the proposed requests.

Unless the Agency determines that there are substantive comments or issues that warrant further review of this request, an order will be issued amending the affected registrations.

Table 1.—Azinphos-methyl Product Registrations with Pending Requests for Amendment
Registration No. | Product name | Company
264-722 | Guthion Technical Insecticide | Bayer CropScience
10163-95 | Azinphos-methyl Technical | Gowan Company
11678-53 | Cotnion-Methyl | Makhteshim Agan of North America, Inc.

Table 2 of this unit includes the names and addresses of record for the registrants of the products listed in Table 1 of this unit.

Table 2.—Registrants Requesting Termination of Uses and Amendments
EPA Company No. | Company name and address
264 | Bayer CropScience 2T.W. Alexander Dr. Research Triangle Park, NC 27709
10163 | Gowan Company P.O. Box 5569 Yuma, AZ 85366-5569
11678 | Makhteshim Agan of North America, Inc. 551 Fifth Ave., Suite 1100 New York, NY 10176

IV. What is the Agency's Authority for Taking this Action?

Section 6(f)(1) of FIFRA provides that a registrant of a pesticide product may at any time request that any of its pesticide registrations be canceled or amended to terminate one or more uses. FIFRA further provides that, before acting on the request, EPA must publish a notice of receipt of any such request in the Federal Register. Thereafter, following the public comment period, the Administrator may approve such a request.

V. Provisions for Disposition of Existing Stocks

Existing stocks are those stocks of registered pesticide products which are currently in the United States and which were packaged, labeled, and released for shipment prior to the effective date of the cancellation action.

In any order issued in response to these requests for amendments to terminate uses, the Agency proposes to include the following provisions for the treatment of any existing stocks of the products identified or referenced in Table 1 of Unit III. In accordance with the MOA, the sale, distribution, and use of existing stocks of these products in the United States are permitted until August 31, 2005.

If the request for use termination is granted, the Agency intends to publish the cancellation order in the Federal Register.

List of Subjects

Environmental protection, Pesticides and pests.

Dated: February 22, 2005.
Peter Caulkins,
Acting Director, Special Review and Reregistration Division, Office of Pesticide Programs.

[FR Doc. 05-3733 Filed 2-25-05; 8:45 am]

BILLING CODE 6560-50-S